DEPARTMENT OF STATE

[Public Notice 7486]

Determination and Waiver Relating to Assistance for the Independent States of the Former Soviet Union

Determination and Waiver of Section 7073(a) of the Department of State, Foreign Operations, and Related Programs Appropriations Act, 2010 (Div. F, Pub. L. 111-117), as carried forward under the Full-Year Continuing Appropriations Act, 2011 (Div. B, Pub. L. 112-10) (“the Act”) Relating to Assistance for the Independent States of the Former Soviet Union.

Pursuant to the authority vested in me as Deputy Secretary of State, including by section Section 7073(a) of the Department of State, Foreign Operations, and Related Programs Appropriations Act, 2010 (Div. F, Pub. L. 111-117), as carried forward under the Full-Year Continuing Appropriations Act, 2011 (Div. B, Pub. L. 112-10) (“the Act”), Executive Order 13118 of March 31, 1999, and State Department Delegation of Authority No. 245-1, I hereby determine that it is in the national security interest of the United States to make available funds appropriated under the heading “Assistance for Europe, Eurasia and Central Asia” of the Act, without regard to the restriction in section 7073(a).

This determination shall be reported to the Congress and published in the Federal Register.

Dated: May 23, 2011.
James B. Steinberg,
Deputy Secretary of State.

[FR Doc. 2011-13920 Filed 6-3-11; 8:45 am]

BILLING CODE 4710-23-P